DEPARTMENT OF DEFENSE

Defense Acquisition Regulations System

48 CFR Parts 209, 210, 215, 217, 230, 237, 245, and 252

Defense Federal Acquisition Regulation Supplement; Technical Amendments

AGENCY: Defense Acquisition Regulations System, Department of Defense (DoD).

ACTION: Final rule.

SUMMARY: DoD is making technical amendments to the Defense Federal Acquisition Regulation Supplement (DFARS) to provide needed editorial changes.

DATES: Effective Date: August 29, 2012.

FOR FURTHER INFORMATION CONTACT: Mr. Manuel Quinones, Defense Acquisition Regulations System, OUSD(AT&L)DPAP(DARS), Room 3B855, 3060 Defense Pentagon, Washington, DC 20301-3060. Telephone 571-372-6088; facsimile 571-372-6094.

SUPPLEMENTARY INFORMATION: This final rule amends the DFARS as follows:

1. Clarifies the designation at 209.403(1) for the Department of Army debarring and suspending official.

2. Revises codes of offices designated to receive reports referenced at 215.403-1(c)(3)(B) and 230.201-5.

3. Directs contracting officers to additional DFARS procedures, guidance, and information by adding references at 210.002, 217.7404, 237.102-77, and 237.102-78.

4. Corrects a form title at 245.7001-6.

6. Corrects a typographical error in clause 252.219-7003, paragraph (f), and revises the clause date.

7. Makes a conforming change to clause 252.225-7017(a) to add Armenia to the definition of “Designated country”, which was inadvertently omitted from publication of the final rule under DFARS Case 2011-D046 (77 FR 30368). The final rule for DFARS Case 2011-D057 (77 FR 4631) had previously added Armenia as a World Trade Organization Government Procurement Agreement country and a designated county.

List of Subjects in 48 CFR Parts 209, 210, 215, 217, 230, 237, 245, and 252

Government procurement.

Manuel Quinones,
Editor, Defense Acquisition Regulations System.

Therefore, 48 CFR parts 209, 210, 215, 217, 230, 237, 245, and 252 are amended as follows:

1. The authority citation for 48 CFR parts 209, 215, 217, 245, and 252 continues to read as follows:

Authority: 41 U.S.C. 1303 and 48 CFR chapter 1.

PART 209—CONTRACTOR QUALIFICATIONS

209.403 [Amended]

2. Section 209.403(1) is amended by removing “Director, Soldier & Family Legal Services” and adding in its place “Army—Director, Soldier & Family Legal Services”.

PART 210—MARKET RESEARCH

3. The authority citation for 48 CFR 210 is revised to read as follows:

Authority: 41 U.S.C. 1303 and 48 CFR chapter 1.

4. Section 210.002 is added to read as follows:

210.002 Procedures.

When contracting for services, see the market research report guide for improving the tradecraft in services acquisition at PGI 210.070.

PART 215—CONTRACTING BY NEGOTIATION

215.403-1 [Amended]

5. Section 215.403-1(c)(3)(B) is amended by removing “ATTN: DPAP/CPF” and adding in its place “ATTN: DPAP/CPIC”.

PART 217—SPECIAL CONTRACTING METHODS

6. Section 217.7404 is amended by adding introductory text to read as follows:

217.7404 Limitations.

See PGI 217.7404 for additional guidance on obtaining approval to authorize use of an undefinitized contract action, documentation requirements, and other limitations on their use.

* * * * *

PART 230—COST ACCOUNTING STANDARDS ADMINISTRATION

7. The authority citation for 48 CFR 230 is revised to read as follows:

Authority: 41 U.S.C. 1303 and 48 CFR chapter 1.

230.201-5 [Amended]

8. Section 230.201-5(e) is amended by removing “ATTN: DPAP/CPF” and adding in its place “ATTN: DPAP/CPIC”.

PART 237—SERVICE CONTRACTING

9. The authority citation for 48 CFR 237 is revised to read as follows:

Authority: 41 U.S.C. 1303 and 48 CFR chapter 1.

10. Section 237.102-77 is added to read as follows:

237.102-77 Automated requirements roadmap tool.

See PGI 237.102-77 for guidance on using the Automated Requirements Roadmap Tool to develop and organize performance requirements into draft versions of the performance work statement, the quality assurance surveillance plan, and the performance requirements summary.

11. Section 237.102-78 is added to read as follows:

237.102-78 Market research report guide for improving the tradecraft in services acquisition.

See PGI 210.070 for guidance on use of the market research report guide to conduct and document market research for service acquisitions.

PART 245—GOVERNMENT PROPERTY

245.7001-6 [Amended]

12. In 245.7001-6, amend the section heading by removing “DD Form 1822,” and adding in its place “DLA Form 1822,”.

PART 252—SOLICITATION PROVISIONS AND CONTRACT CLAUSES

252.219-7003 [Amended]

13. Section 252.219-7003 is amended by—

a. Amending the clause date by removing “(JUN 2012)” and adding in its place “(AUG 2012)”; and

b. Amending paragraph (f) by removing the word “approval” and adding in its place “approved”.

252.225-7017 [Amended]

14. Section 252.225-7017 is amended by—

a. Amending the clause date by removing “(JUN 2012)” and adding in its place “(AUG 2012)”; and

b. Amending the paragraph (a) definition of “Designated country” at paragraph (i) by adding the country of Armenia within the parentheses at the beginning of the (WTO GPA) country list.

[FR Doc. 2012-21053 Filed 8-28-12; 8:45 am]

BILLING CODE 5001-06-P